DEPARTMENT OF TRANSPORTATION

Federal Motor Carrier Safety Administration

[Docket No. FMCSA-2014-0297]

Qualification of Drivers; Exemption Applications; Vision

AGENCY: Federal Motor Carrier Safety Administration (FMCSA), DOT.

ACTION: Notice of applications for exemptions, request for comments.

SUMMARY: FMCSA announces receipt of applications from 12 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before November 21, 2014. All comments will be investigated by FMCSA. The exemptions will be issued the day after the comment period closes.

ADDRESSES: You may submit comments bearing the Federal Docket Management System (FDMS) Docket No. FMCSA-2014-0297 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the Federal Docket Management System (FDMS) published in the Federal Register on January 17, 2008 (73 FR 3316).

FOR FURTHER INFORMATION CONTACT: Elaine M. Papp, R.N., Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 12 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

Rickie L. Brown

Mr. Brown, 51, has a scar in his left eye due to a traumatic incident in childhood. The visual acuity in his right eye is 20/20, and in his left eye, 20/125. Following an examination in 2014, his optometrist stated, “I certify that, in my medical opinion, this patient has sufficient vision to operate a commercial motor vehicle . . . No correction needed present CDL has restrictions 3 and F [sic] . . . Patient should continue w/present restrictions.” Mr. Brown reported that he has driven tractor-trailer combinations for 27 years, accumulating 4.05 million miles. He holds a Class A CDL from Mississippi. His driving record for the last 3 years shows no crashes and no convictions for moving violations in a CMV.

Brian M. Goehring

Mr. Goehring, 46, has had amblyopia in his right eye since childhood. The visual acuity in his right eye is 20/100, and in his left eye, 20/20. Following an examination in 2014, his optometrist stated, “It is my opinion that Mr. Goehring has sufficient vision to perform the daily tasks required to operate a commercial vehicle.”

Mr. Goehring reported that he has driven straight trucks for 2 years, accumulating 100,000 miles, and buses for 21 years, accumulating 1.68 million miles. He holds a Class B CDL from Pennsylvania. His driving record for the last 3 years shows no crashes and no convictions for moving violations in a CMV.

Dewey P. Huffman

Mr. Huffman, 61, has complete loss of vision in his right eye due to a traumatic incident in 1971. The visual acuity in his right eye is no light perception, and in his left eye, 20/20. Following an examination in 2014, his ophthalmologist stated,

“Mr. Huffman has excellent ocular health of his only seeing eye. He has sufficient vision in that eye to operate a commercial vehicle.” Mr. Huffman reported that he has driven straight trucks for 18 years, accumulating 189,000 miles. He holds an operator's license from Oregon. His driving record for the last 3 years shows no crashes and no convictions for moving violations in a CMV.

Purvis W. Kills Enemy At Night

Mr. Kills Enemy At Night, 48, has complete loss of vision in his left eye due to a traumatic incident in 1994. The visual acuity in his right eye is 20/25, and in his left eye, no light perception. Following an examination in 2014, his ophthalmologist stated, “I do think he has sufficient vision to safely perform driving his bus.”

Mr. Kills Enemy At Night reported that he has driven buses for 4 years, accumulating 115,200 miles. He holds a Class B CDL from South Dakota. His driving record for the last 3 years shows no crashes and no convictions for moving violations in a CMV.

Daniel M. King

Mr. King, 39, has had amblyopia in his left eye since birth. The visual acuity in his right eye is 20/20, and in his left eye, 20/400. Following an examination in 2014, his optometrist stated, “Based on my examination of Mr. King's eyes, I hereby certify in my medical opinion, Daniel King has appropriate vision to perform the driving tasks to operate a commercial vehicle.” Mr. King reported that he has driven straight trucks for 24 years, accumulating 12,000 miles. He holds an operator's license from Oklahoma. His driving record for the last 3 years shows no crashes and no convictions for moving violations in a CMV.

Robby K. Leith II

Mr. Leith, 26, has had amblyopia in his left eye since childhood. The visual acuity in his right eye is 20/20, and in his left eye, 20/100. Following an examination in 2014, his optometrist stated, “And in my opinion he has sufficient vision to perform the driving tasks to operate a commercial vehicle.” Mr. Leith reported that he has driven straight trucks for 4 years, accumulating 72,000 miles. He holds an operator's license from California. His driving record for the last 3 years shows no crashes and no convictions for moving violations in a CMV.

Roger F. Love

Mr. Love, 73, has complete loss of vision in his right eye due to a traumatic incident during childhood. The visual acuity in his right eye is no light perception, and in his left eye, 20/20. Following an examination in 2014, his ophthalmologist stated, “I certify in my medical opinion that Roger Love does have sufficient vision to perform the driving tasks required to operate a commercial vehicle.” Mr. Love reported that he has driven straight trucks for 10 years, accumulating 100,000 miles, and tractor-trailer combinations for 50 years, accumulating 1 million miles. He holds a Class A CDL from Minnesota. His driving record for the last 3 years shows no crashes and 1 conviction for a moving violation in a CMV; he exceeded the speed limit by 5 mph.

Gary G. Medeiros II

Mr. Medeiros, 48, has had amblyopia in his right eye since childhood. The visual acuity in his right eye is 20/80, and in his left eye, 20/20. Following an examination in 2014, his optometrist stated, “Mr. Medeiros' vision is stable. He has more than adequate vision to operate a commercial vehicle.” Mr. Medeiros reported that he has driven straight trucks for 30 years, accumulating 4.2 million miles and tractor-trailer combinations for 30 years, accumulating 3.72 million miles. He holds a Class A CDL from Idaho. His driving record for the last 3 years shows no crashes and no convictions for moving violations in a CMV.

Michael J. Monroe

Mr. Monroe, 67, has a prosthetic left eye due to a traumatic incident in 1969. The visual acuity in his right eye is 20/15, and in his left eye, no light perception. Following an examination in 2014, his ophthalmologist stated, “Patient's vision is stable in his only eye, the right eye, at better than 20/20. Recommend driving privileges for commercial driving [sic] license.” Mr. Monroe reported that he has driven straight trucks for 32 years, accumulating 16,000 miles and buses for 1 month, accumulating 4,320 miles. He holds a Class A CDL from Iowa. His driving record for the last 3 years shows no crashes and no convictions for moving violations in a CMV.

Eugene F. Napieralski

Mr. Napieralski, 50, has a corneal scar in his left eye due to a traumatic incident in childhood. The visual acuity in his right eye is 20/20, and in his left eye, no light perception. Following an examination in 2014, his optometrist stated, “It is my opinion that he has proven over the past twenty years of accident free [sic] driving that he has sufficient vision to operate a commercial vehicle.” Mr. Napieralski reported that he has driven straight trucks for 29 years, accumulating 522,000 miles. He holds a Class B CDL from Minnesota. His driving record for the last 3 years shows no crashes and no convictions for moving violations in a CMV.

Benjamin Riegelman

Mr. Riegelman, 52, has had refractive amblyopia in his left eye since childhood. The visual acuity in his right eye is 20/20, and in his left eye, 20/400. Following an examination in 2014, his optometrist stated, “Vision is sufficient to perform driving tasks required to operate a commercial vehicle.” Mr. Riegelman reported that he has driven straight trucks for 27 years, accumulating 270,000 miles. He holds a Class B CDL from New Jersey. His driving record for the last 3 years shows no crashes and no convictions for moving violations in a CMV.

Stephen Susino

Mr. Susino, 57, has had a corneal transplant in his right eye since 1991. The visual acuity in his right eye is hand motion, and in his left eye, 20/20. Following an examination in 2014, his ophthalmologist stated, “It is my medical opinion that his vision is sufficient to perform the required driving tasks to operate a commercial vehicle.”

Mr. Susino reported that he has driven straight trucks for 22 years, accumulating 374,000 miles. He holds an operator's license from New Jersey. His driving record for the last 3 years shows 1 crash, for which he was not cited and to which he did not contribute, and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2014-0297 in the “Keyword” box, and click “Search. When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period and may change this notice based on your comments.

Viewing Comments and Documents

To view comments, as well as documents mentioned in this preamble as being available in the docket, go to http://www.regulations.gov and insert the docket number FMCSA-2014-0297 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued on: October 10, 2014.
Larry W. Minor,
Associate Administrator for Policy.

[FR Doc. 2014-25126 Filed 10-21-14; 8:45 am]

BILLING CODE P